NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for International Science and Engineering—PIRE: Halting Environmental Antimicrobial Resistance Dissemination (HEARD)—Site Visit

Date and Time:

April 30, 2018 9:00 a.m.-9:00 p.m.

May 1, 2018 8:00 a.m.-4:30 p.m.

Place: Virginia Polytechnic Institute and State University, Department of Civil & Environmental Engineering, Blacksburg, VA 24061-0001.

Type of Meeting: Part open.

Contact Person: Cassandra Dudka, PIRE Program Manager, National Science Foundation, 2415 Eisenhower Avenue, Alexandria, VA 22314; Telephone 703-292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C.552b(c), (4) and (6) of the Government in the Sunshine Act.

Dated: April 4, 2018.
Crystal Robinson,
Committee Management Officer.

Heard PIRE NSF Site Visit Agenda—Virginia Tech

April 30, 2018

8:00 a.m.-9:00 a.m. Breakfast (on your own)

9:00 a.m.-10:30 a.m. Introductions

PIRE Rationale and Goals

Management/Budgets

10:30 a.m.-10:45 a.m. NSF Executive Session/Break (CLOSED)

10:45 a.m.-12:15 p.m. Research Presentations

Peter Vikesland/Amy Pruden—Virginia Tech

Qi Lin Li—Rice

Diana Aga—U. Buffalo

Krista Wigginton—U. Michigan

12:15 p.m.-12:45 p.m. Poster Session—PIRE students

12:45 p.m.-1:30 p.m. NSF Executive lunch with students

1:30 p.m.-1:45 p.m. NSF Executive Session/Break (CLOSED)

1:45 p.m.-2:30 p.m. Glenda Kelly—External Evaluation of HEARD

2:30 p.m.-3:00 p.m. Representatives from VT Graduate School—Institutional Support

3:00 p.m.-4:00 p.m.

Integrating Research and Education

Partnerships

Future Plans

4:00 p.m.-4:15 p.m. NSF Executive Session/Break (CLOSED)

4:15 p.m.-5:00 p.m. Facility Tour—ICTAS II, Kelly Hall laboratories

5:00 p.m.-5:30 p.m. Wrap up

5:30 p.m.-6:30 p.m. NSF Executive Session/Break (CLOSED)

6:30 p.m. Critical Feedback Provided to PI

7:00 p.m.-9:00 p.m. NSF Executive Session/Working Dinner (CLOSED)

May 1, 2018

7:00 a.m.-8:00 a.m. Breakfast (on your own)

8:00 a.m.-10:00 a.m. Summary/Research Team Given Critical Feedback

10:00 a.m.-4:00 p.m. Site Review Team Prepares Site Visit Report (Working Lunch Provided)

4:15 p.m. Presentation of Site Visit Report to Principal Investigator

[FR Doc. 2018-07209 Filed 4-6-18; 8:45 am]

BILLING CODE 7555-01-P